DEPARTMENT OF JUSTICE

Notice of Lodging of Consent Decree Pursuant to the Comprehensive Environmental Response, Compensation and Liability Act

In accordance with Section 122 of the Comprehensive Environmental Response, Compensation and Liability Act (“CERCLA”), 42 U.S.C. 9622, the Department of Justice gives notice that a proposed Consent Decree in United States v. Regal-Beloit Corporation, Civil No. 07-50002 (N.D. Ill.), was lodged with the United States District Court for the Northern District of Illinois on December 18, 2008, pertaining to the Evergreen Manor Groundwater Contamination Superfund Site (the “Site”), located in Roscoe Township, Winnebago County, Illinois. In this action, the United States brought civil claims under Sections 107 and 113(g)(2) of CERCLA, 42 U.S.C. 9607 and 9613(g)(2), against Regal-Beloit Corporation (“Regal-Beloit”) for recovery of response costs incurred and to be incurred by the United States at the Site.

Under the proposed Consent Decree, Regal-Beloit would pay $425,000 of the United States' past response costs, and $25,000 toward the United States future response costs, at the Site to resolve the United States cost recovery claims. This is the second settlement at this Site. In the first, lodged on May 29, 2008, and pending with the Court (United States v. Waste Management of Illinois, Inc. et al., Civil No. 08-50094 (N.D. Ill.)) (“Waste Management Consent Decree”), three settling parties would implement the remedy selected by the U.S. Environmental Protection Agency (“EPA”) in the Record of Decision (“ROD”) for the Site, and to pay $550,000 in partial recovery of the United States' past response costs incurred at the Site as well as EPA's future costs of overseeing the implementation of the remedial action. The instant Consent Decree would not require Regal-Beloit to perform response action at the Site, however, its terms parallel, inter alia, the covenant for future liability and reopener provisions of the Waste Management Consent Decree.

The Department of Justice will receive, for a period of thirty (30) days from the date of this publication, comments relating to the proposed Consent Decree. Comments should be addressed to the Assistant Attorney General, Environment and Natural Resources Division, and either e-mailed to pubcomment-ees.enrd@usdoj.gov or mailed to United States Department of Justice, P.O. Box 7611, Washington, DC 20044-7611, and should refer to United States v. Regal-Beloit Corporation, Civil No. 07-50002 (N.D. Ill.), and DOJ Reference No. 90-11-3-08952.

The proposed Consent Decree may be examined at: (1) the Office of the United States Attorney for the Northern District of Illinois, Rockford Division, 308 West State Street, Suite 300, Rockford, Illinois 61101 ((815) 987-4444); and (2) the United States Environmental Protection Agency (Region 5), 77 West Jackson Blvd., Chicago, IL 60604-3507 (contact: John C. Matson (312) 886-2243).

During the public comment period, the proposed Consent Decree may also be examined on the following U.S. Department of Justice Web site, http://www.usdoj.gov/enrd/Consent_Decrees.html. A copy of the proposed Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation no. (202) 514-1547. In requesting a copy from the Consent Decree Library, please refer to the referenced case and DOJ Reference Number and enclose a check in the amount of $8.50 for the Consent Decree (34 pages including appendix, at 25 cents per page reproduction costs), made payable to the U.S. Treasury or, if by e-mail or fax, forward a check in that amount to the Consent Decree Library at the stated address.

William D. Brighton,
Assistant Chief, Environmental Enforcement Section, Environment and Natural Resources Division.

[FR Doc. E8-30546 Filed 12-23-08; 8:45 am]

BILLING CODE 4410-15-P